DEPARTMENT OF ENERGY

Federal Energy Regulatory Commission

[Docket No. DI14-07-000]

Bass/Wilson Properties, LLC; Notice of Petition for Declaratory Order and Soliciting Comments, Protests, and/or Motions To Intervene

Take notice that the following application has been filed with the Commission and is available for public inspection:

a. Application Type: Petition for Declaratory Order.

b. Docket No: DI14-07-000.

c. Date Filed: September 23, 2014.

d. Applicant: Bass/Wilson Properties, LLC.

e. Name of Project: Bass/Wilson Hydropower Project.

f. Location: The proposed Bass/Wilson Hydropower Project will be located on Wilson Stream, in the town of Wilton, Franklin County, Maine.

g. Filed Pursuant to: Section 23(b)(1) of the Federal Power Act, 16 U.S.C. 817(b) (2012).

h. Applicant Contact: Bass/Wilson Properties, LLC, 845 U.S. Route 2, Wilton, ME 04294; telephone: (207) 645-4448, or Email address: randy@cousineau.com.

i. FERC Contact: Any questions on this notice should be addressed to Jennifer Polardino, (202) 502-6437, or Email address: Jennifer.Polardino@ferc.gov.

j. Deadline for filing comments, protests, and/or motions is: 30 days from the issuance of this notice by the Commission.

Comments, Motions to Intervene, and Protests may be filed electronically via the Internet. See 18 CFR 385.2001(a)(l)(iii) (2013) and the instructions on the Commission's Web site under the “eFiling” link. If unable to be filed electronically, documents may be paper-filed. To paper-file, an original and eight copies should be mailed to: Kimberly D. Bose, Secretary, Federal Energy Regulatory Commission, 888 First Street NE., Washington, DC 20426. For more information on how to submit these types of filings, please go to the Commission's Web site located at http://www.ferc.gov/filing-comments.asp.

Please include the docket number (DI14-07-000) on any comments, protests, and/or motions filed.

k. Description of Project: The existing run-of-river Bass/Wilson Hydroelectric Project will consist of the following existing facilities: (1) A nine-foot-high dam at the outlet of Wilson Stream; (2) an existing bulkhead, waste gate, canal, and a two-foot-high, eight-foot-wide tailrace built prior to 1887; (3) a turbine room and powerhouse constructed in 1904. The applicant proposes to install: (1) A 78-kilowatt turbine generating unit for electrical production rated at 18 feet of net head with an average flow of 65 cubic feet per second; (2) an intake through a concrete wall on the upstream end of the building in the current power canal; (3) a 36-inch to 48-inch diameter fiberglass conduit in the existing raceway under the building; (4) and appurtenant facilities. The power generated will be used on-site and all excess power will be distributed via connection to the interstate grid.

When a Declaration of Intention is filed with the Federal Energy Regulatory Commission, the Federal Power Act requires the Commission to investigate and determine if the project would affect the interests of interstate or foreign commerce. The Commission also determines whether or not the project: (1) Would be located on a navigable waterway; (2) would occupy public lands or reservations of the United States; (3) would utilize surplus water or water power from a government dam; or (4) would be located on a non-navigable stream over which Congress has Commerce Clause jurisdiction and would be constructed or enlarged after 1935.

l. Locations of the Application: Copies of this filing are on file with the Commission and are available for public inspection. This filing may be viewed on the web at http://www.ferc.gov using the “eLibrary” link. Enter the Docket number excluding the last three digits in the docket number field to access the document. You may also register online at http://www.ferc.gov/docs-filing/esubscription.asp to be notified via email of new filings and issuances related to this or other pending projects. For assistance, call 1-866-208-3676 or email FERCOnlineSupport@ferc.gov for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must bear in all capital letters the title “COMMENTS”, “PROTESTS”, AND/OR “MOTIONS TO INTERVENE”, as applicable, and the Docket Number of the particular application to which the filing refers. A copy of any Motion to Intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Dated: November 20, 2014.
Kimberly D. Bose,
Secretary.

[FR Doc. 2014-28019 Filed 11-25-14; 8:45 am]

BILLING CODE 6717-01-P